DEPARTMENT OF COMMERCE

International Trade Administration

University of California, Riverside; Notice of Decision on Application for Duty-Free Entry of Scientific Instrument

This decision is made pursuant to Section 6(c) of the Educational, Scientific, and Cultural Materials Importation Act of 1966 (Pub. L. 89-651, 80 Stat. 897; 15 CFR part 301). Related records can be viewed between 8:30 a.m. and 5 p.m. in Suite 4100W, U.S. Department of Commerce, Franklin Court Building, 1099 14th Street, NW., Washington, DC.

Docket Number: 02-021. Applicant: University of California, Riverside, Riverside, CA 92521. Instrument: Two (2) Confocal Microscopes, Models TCS SP2/UV and TCS SPS RS-2P. Manufacturer: Leica Microsystems, Germany. Intended Use: See notice at 67 FR 44424, July 2, 2002.

Comments: None received. Decision: Approved. No instrument of equivalent scientific value to the foreign instrument, for such purposes as it is intended to be used, is being manufactured in the United States. Reasons: The foreign instrument provides: (1) A confocal microscope with spectral detection, (2) a pinhole design for registration of all fluorescence colors and (3) fast scan speed. The National Institutes of Health advises in its memorandum of June 12, 2002 that (1) these capabilities are pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 02-19340 Filed 7-30-02; 8:45 am]

BILLING CODE 3510-DS-P